DEPARTMENT OF ENERGY

Extension of Approved Information Collection

AGENCY: Office of Energy Efficiency and Renewable Energy, Department of Energy.

ACTION: Notice and request for comments.

SUMMARY: The Department of Energy (DOE) invites public comment on the renewal of collection of information that DOE is developing for submission to the Office of Management and Budget (OMB) pursuant to the Paperwork Reduction Act of 1995. The renewal of the collection of information relates to DOE's Superior Energy Performance certification and 50001 Ready recognition programs.

DATES: Comments regarding this proposed information collection must be received on or before September 7, 2021. If you anticipate difficulty in submitting comments within that period, contact the person listed in ADDRESSES as soon as possible.

ADDRESSES: Written comments may be sent to Ethan Rogers, EE-5A/Forrestal Building, 1000 Independence Avenue SW, Washington, DC 20585, by fax at 202-287-6093, or by email at ethan.rogers@ee.doe.gov.

FOR FURTHER INFORMATION CONTACT: Requests for additional information or copies of the information collection instrument and instructions should be directed to Ethan Rogers, EE-5A/Forrestal Building, 1000 Independence Avenue SW, Washington, DC 20585, by fax at 202-287-6093, or by email at ethan.rogers@ee.doe.gov.

SUPPLEMENTARY INFORMATION: Comments are invited on: (a) Whether the approved collection of information remains necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents.

This information collection request contains:

(1) OMB No.: 1910-5177.

(2) Information Collection Request Title: Department of Energy Superior Energy Performance 50001 Program Certification and 50001 Ready Recognition Information Collection Request;

(3) Type of Request: Renewal;

(4) Purpose: This Information Collection Request applies to the Department of Energy (DOE) voluntary ISO 50001 programs for industrial facilities: Superior Energy Performance 50001™ (SEP 50001™) and 50001 Ready™ recognition. The information being collected remains necessary to ensure that DOE's ISO 50001 programs continue to deliver energy benefits and value to program participants. SEP 50001 is an energy efficiency certification and recognition program for industrial facilities demonstrating energy management excellence with ISO 50001 and third-party verification of energy savings. 50001 Ready recognition is a self-attestation of the implementation of an ISO 50001 energy management system without the need for external audits.

SEP 50001 builds on the ISO 50001 energy management system standard and provides a rigorous, internationally recognized business process for companies to continually improve their energy performance. The SEP third-party verification of energy performance improvement is unique in the marketplace and assists to differentiate certified companies from their competitors. This request for information consists of a voluntary data collection process for SEP participation: To manage participation, track certification cycles, and relay the costs and benefits of SEP certification to industry. 50001 Ready collects a lesser amount of self-attested information to manage and track recognition cycles and to recognize the achievements of its participants.

Four types of information are collected from SEP 50001's primary participants: (1) Background data, including contact information and basic information about the facility's experience with energy management—collected in the SEP 50001 Application Form; (2) Basic facility information about its energy use, energy consumption, and energy performance indicators—also collected in the SEP 50001 Application Form; (3) Information on energy performance improvement in certified facilities—collected in the SEP 50001 Energy Performance Improvement Report. 50001 Ready collects only a subset of the same types of information in categories (1), (2), and (3), and without the need for external audit. The program's online system, the 50001 Ready Navigator, enables participants to submit this information.

Background data will primarily be used to track basic information about SEP and 50001 Ready participants and identify opportunities to provide participants with technical assistance. Basic information about a facility's energy use, energy consumption, and energy performance indicators will be used to administer each program. Information on energy performance improvement will be used by DOE to manage and track participation cycles, and to track the results of participating in SEP and 50001 Ready. Responses to the DOE's Information Collection Request will be voluntary.

(5) Annual Estimated Number of Respondents: 233;

(6) Annual Estimated Number of Total Responses: 233;

(7) Annual Estimated Number of Burden Hours: 333.

(8) Annual Estimated Reporting and Recordkeeping Cost Burden: $25,120.

Statutory Authority: Accelerating Investment in Industrial Energy Efficiency. Executive Order 13624, 77 FR 54779 (Aug. 30, 2012); 42 U.S.C. 16191.

Signing Authority: This document of the Department of Energy was signed on June 28, 2021, by Michael McKittrick, Acting Director, Advanced Manufacturing Office, Office of Energy Efficiency and Renewable Energy, pursuant to delegated authority from the Secretary of Energy. That document with the original signature and date is maintained by DOE. For administrative purposes only, and in compliance with requirements of the Office of the Federal Register, the undersigned DOE Federal Register Liaison Office has been authorized to sign and submit the document in electronic format for publication, as an official document of the Department of Energy. This administrative process in no way alters the legal effect of this document upon publication in the Federal Register.

Signed in Washington, DC, on June 30, 2021.
Treena V. Garrett,
Federal Register Liaison Officer, U.S. Department of Energy.

[FR Doc. 2021-14333 Filed 7-2-21; 8:45 am]

BILLING CODE 6450-01-P